DEPARTMENT OF TRANSPORTATION

Federal Railroad Administration

49 CFR Part 260

[Docket No. FRA-2008-0061]

RIN 2130-AB91

Railroad Rehabilitation and Improvement Financing Program

AGENCY: Federal Railroad Administration (FRA), Department of Transportation (DOT).

ACTION: Notice of proposed rulemaking (NRPM); extension of comment period.

SUMMARY: On June 9, 2008, FRA published a Notice of Proposed Rulemaking (NPRM) in the Federal Register (73 FR 32515) proposing amending the eligibility and application form and content criteria of the Railroad Rehabilitation and Improvement Financing (RRIF) Program to ensure the long-term sustainability of the program, promote competition in the railroad industry, and reduce the risk of default for applicants and the Government. Due to an administrative error, a Preliminary Regulatory Evaluation (Evaluation) was not included in the docket. This notice announces an extension of the comment period until August 26, 2008 to allow for consideration of the Evaluation.

DATES: Comments must be received by August 26, 2008. Comments received after that date will be considered to the extent possible without incurring additional expense or delay.

ADDRESSES: Comments should reference Docket No. FRA-2008-0061 and may be submitted the following ways:

• E-Gov Web site: http://www.regulations.gov. This Web site allows the public to enter comments on any Federal Register notice issued by any agency. Follow the instructions for submitting comments.

• Fax: 1-202-493-2251.

• Mail: DOT Docket Management System: U.S. Department of Transportation, Docket Operations, M-30, West Building Ground Floor, Room W12-140, 1200 New Jersey Avenue, SE., Washington, DC 20590-0001.

• Hand Delivery: DOT Docket Management System; West Building Ground Floor, Room W12-140, 1200 New Jersey Avenue, SE., Washington, DC 20590-0001 between 9 a.m. and 5 p.m., Monday through Friday, except Federal holidays.

Instructions: You should identify the docket ID, FRA-2008-0061, at the beginning of your comments. If you submit your comments by mail, submit two copies. To receive confirmation that FRA received your comments, include a self-addressed stamped postcard. Internet users may submit comments at http://www.regulations.gov.

Note: Comments are posted without changes or edits to http://www.regulations.gov, including any personal information provided. There is a privacy statement published on http://www.regulations.gov.

FOR FURTHER INFORMATION CONTACT: John Kern, Attorney-Advisor, Office of the Chief Counsel, Federal Railroad Administration, 1200 New Jersey Avenue, SE., Washington, DC 20590 (John.Kern@dot.gov or 202-493-6044).

SUPPLEMENTARY INFORMATION:

Electronic Access and Filing

You may submit or retrieve comments online through http://www.regulations.gov, which is available 24 hours each day, 365 days each year. Electronic submission and retrieval help and guidelines are available under the help section of the Web site.

An electronic copy of this document may also be downloaded from Office of the Federal Register's home page at http://www.archives.gov/federal_register and the Government Printing Office's Web page at http://www.gpoaccess.gov.

Issued in Washington, DC on August 7, 2008.
Joseph H. Boardman,
Administrator.

[FR Doc. E8-18710 Filed 8-8-08; 12:00 pm]

BILLING CODE 4910-06-P